DEPARTMENT OF HEALTH AND HUMAN SERVICES

Administration for Children and Families

Submission for OMB Review; Comment Request

Title: State Plan for Foster Care and Adoption Assistance—Title IV-E.

OMB No.: 0980-0141.

Description: A title IV-E plan is required by section 471 part IV-E of the Social Security Act (the Act) for each public child welfare agency requesting Federal funding for foster care, adoption assistance and guardianship assistance under the Act. The title IV-E plan provides assurances the programs will be administered in conformity with the specific requirements stipulated in title IV-E. The plan must include all applicable State statutory, regulatory, or policy references and citations for each requirement as well as supporting documentation. A title IV-E agency may use the pre-print format prepared by the Children's Bureau of the Administration for Children and Families or a different format, on the condition that the format used includes all of the title IV-E State plan requirements of the law.

Public Law 110-351, the Fostering Connections to Success and Increasing Adoptions Act of 2008, created a new title IV-E plan option to provide a Guardianship Assistance Program for relatives of children in foster care (section 471(a)(28) of the Act). The Guardianship Assistance program was made effective for States upon enactment of Public Law 110-351 (October 7, 2008).

Effective October 1, 2009, Public Law 110-351 will allow Tribes, Tribal organizations and Tribal consortia to directly operate title IV-E programs for foster care maintenance payments, adoption assistance and kinship guardianship assistance.

The law also made a number of other changes to title IV-E plan requirements and eligibility criteria. The law's provisions expanding the scope of the title IV-E program necessitates a revision of the preprint.

Respondents: State and Territorial Agencies (State Agencies) administering or supervising the administration of the title IV-E programs and Federally-recognized Tribes, Tribal organizations and Tribal consortia administering title IV-E programs.

Annual Burden Estimates
Instrument | Number of respondents | Number of responses per respondent | Average burden hours per response | Total burden hours
Title IV-E Plan | 33 | 1 | 16 | 528

Estimated Total Annual Burden Hours: 528.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7245, Attn: Desk Officer for the Administration for Children and Families.

Dated: July 23, 2009.
Janean Chambers,
Reports Clearance Officer.

[FR Doc. E9-17934 Filed 7-28-09; 8:45 am]

BILLING CODE 4184-01-P